DEPARTMENT OF DEFENSE

Office of the Secretary

[Docket ID: DoD-2013-OS-0213]

Privacy Act of 1974; System of Records

AGENCY: National Geospatial-Intelligence Agency, DoD.

ACTION: Notice to add a new System of Records.

SUMMARY: The National Geospatial-Intelligence Agency is establishing a new system of records in its inventory of record systems subject to the Privacy Act of 1974, as amended. The National Geospatial-Intelligence Agency proposes to add a new system of records notice, NGA-008, National Geospatial-Intelligence Agency Polygraph Records System, to its existing inventory of records systems subject to the Privacy Act of 1974, as amended. This system ensures the integrity in the polygraph examination process, documents polygraph results, assists with security eligibility determinations and employment or assignment suitability decisions in accordance with applicable laws, regulations and guidance.

DATES: This proposed action will be effective on December 20, 2013 unless comments are received which result in a contrary determination. Comments will be accepted on or before December 19, 2013.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: National Geospatial-Intelligence Agency (NGA), ATTN: Security Specialist, Mission Support, MSRS P-12, 7500 GEOINT Drive, Springfield, VA 22150.

SUPPLEMENTARY INFORMATION: The National Geospatial-Intelligence Agency notices for systems of records subject to the Privacy Act of 1974 (5 U.S.C. 552a), as amended, have been published in the Federal Register and are available from the address in FOR FURTHER INFORMATION CONTACT or at the Defense Privacy and Civil Liberties Web site at http://dpclo.defense.gov/privacy/SORNs/component/ngia/index.html.

The proposed system report, as required by 5 U.S.C. 552a(r) of the Privacy Act of 1974, as amended, was submitted on May 17, 2013, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: November 12, 2013.
Aaron Siegel,
Alternate OSD Federal Register Liaison Officer, Department of Defense.

NGA-008

System name:

National Geospatial-Intelligence Agency Polygraph Records System.

System location:

Records are maintained at National Geospatial-Intelligence Agency (NGA) Headquarters in Washington, DC metro facilities.

Categories of individuals covered by the system:

Current and former NGA employees, military personnel, contractors, employed by or assigned to NGA facilities.

Categories of records in the system:

Polygraph reports, polygraph charts, polygraph tapes, and notes from polygraph interviews or activities related to polygraph interviews. Identifying information such as, name, date of birth, place of birth, Social Security Number (SSN), company name, contract number, disability data, medical information, gender, grade/rank, employee identification number, and foreign contacts.

Authority for maintenance of the system:

50 U.S.C. 402a; Coordination of counterintelligence activities; E.O. 10450, Security requirements for Government employment; E.O. 12968, as amended, Access to classified information; 5 CFR part 732, National security positions; 5 CFR part 736, Personnel investigations; 32 CFR part 147, Adjudicative Guidelines for Determining Eligibility for Classified Information; Director of Central Intelligence Directive (DCID) 6/4, Personnel Security Standards and Procedures Governing Eligibility for Access to Sensitive Compartmented Information; 5 U.S.C. 301 Departmental Regulations; DoDD 5105.60, National Geospatial-Intelligence Agency (NGA); 5 U.S.C. 7532, Suspension and Removal; E.O. 12958, Classified National Security Information; DoD 5200.2-R, DoD Personnel Security Program; Director of Central Intelligence Directive No. 1/14, Personnel Security Standards and Procedures Governing Eligibility for Access to Sensitive Compartmented Information (SCI); E.O. 13467, Reforming Processes Related to Suitability for Government Employment, Fitness for Contractor Employees, and Eligibility for Access to Classified National Security Information; and E.O. 9397 (SSN), as amended.

Purpose(s):

To ensure the integrity in the polygraph examination process, document polygraph results, assist with security eligibility determinations and employment or assignment suitability decisions in accordance with applicable laws, regulations and guidance. To assist with investigations into possible violations of NGA rules and regulations, including the possible loss or compromise of classified or protected NGA information.

Routine uses of records maintained in the system, including categories of uses and the purposes of such uses:

In addition to those disclosures generally permitted under 5 U.S.C. 552a(b) of the Privacy Act of 1974, as amended, these records may be specifically disclosed outside of the DoD as a routine use pursuant to 5 U.S.C. a(b)(3) as follows:

The DoD Blanket Routine Uses set forth at the beginning of NGA's compilation or systems of records notices may apply to this system.

Policies and practices for storing, retrieving, accessing, retaining, and disposing of records in the system:

Storage:

Electronic storage media.

Retrievability:

Records may be retrieved by name, employee identification number or SSN.

Safeguards:

Records in this system are safeguarded in accordance with applicable rules and policies, including all applicable NGA automated systems security and access policies. Strict controls have been imposed to minimize the risk of compromising the information that is being stored. Access to the computer system containing the records in this system is strictly limited to those individuals who have a need to know the information for the performance of their official duties and who have appropriate clearances or permissions. Some of the technical controls include, limited, role based access as well as profiles based access to limit users to only data that is needed for the performance of their official duties. The system is located in a secure data center and operated by Federal personnel and contractors.

Retention and disposal:

NGA will transfer the records to the National Archives and Records Administration when no longer needed and destroyed/deleted when 10 years old.

System manager(s) and address:

Polygraph Branch Chief, Security and Installations Division, Personnel Security, National Geospatial-Intelligence Agency (NGA).

Notification procedure:

Individuals seeking to determine whether information about themselves is contained in this system of records should address written inquiries to the National Geospatial-Intelligence Agency (NGA), Freedom of Information Act/Privacy Act Office, 7500 GEOINT Drive, Springfield, VA 22150-7500.

The request envelope and letter should both be clearly marked “Privacy Act Inquiry.”

The written request must contain your full name, current address, and date and place of birth. Also include an explanation of why you believe NGA would have information on you and specify when you believe the records would have been created.

You must sign your request and your signature must either be notarized or an unsworn declaration made in accordance with 28 U.S.C. 1746, in the following format:

If executed outside the United States: ‘I declare (or certify, verify, or state) under penalty of perjury under the laws of the United States of America that the foregoing is true and correct. Executed on (date). (Signature)'.

If executed within the United States, its territories, possessions, or commonwealths: ‘I declare (or certify, verify, or state) under penalty of perjury that the foregoing is true and correct. Executed on (date). Signature)'.

Record access procedures:

Individuals seeking access to information about themselves contained in this system of records should address written inquiries to the National Geospatial-Intelligence Agency (NGA), Freedom of Information Act/Privacy Act Office, 7500 GEOINT Drive, Springfield, VA 22150-7500.

The request envelope and letter should both be clearly marked “Privacy Act Inquiry.”

The written request must contain your full name, current address, and date and place of birth. Also include an explanation of why you believe NGA would have information on you and specify when you believe the records would have been created.

You must sign your request and your signature must either be notarized or an unsworn declaration made in accordance with 28 U.S.C. 1746, in the following format:

If executed outside the United States: ‘I declare (or certify, verify, or state) under penalty of perjury under the laws of the United States of America that the foregoing is true and correct. Executed on (date). (Signature)'.

If executed within the United States, its territories, possessions, or commonwealths: ‘I declare (or certify, verify, or state) under penalty of perjury that the foregoing is true and correct. Executed on (date). Signature)'.

Contesting records procedures:

Individuals contesting the accuracy of records contained in this system of records about themselves should address written inquiries to the National Geospatial-Intelligence Agency (NGA), Freedom of Information Act/Privacy Act Office, 7500 Geoint Drive, Springfield, VA 22150-7500.

The request envelope and letter should both be clearly marked “Privacy Act Inquiry.”

The written request must contain your full name, current address, and date and place of birth. Also include an explanation of why you believe NGA would have information on you and specify when you believe the records would have been created.

You must sign your request and your signature must either be notarized or an unsworn declaration made in accordance with 28 U.S.C. 1746, in the following format:

If executed outside the United States: ‘I declare (or certify, verify, or state) under penalty of perjury under the laws of the United States of America that the foregoing is true and correct. Executed on (date). (Signature)'.

If executed within the United States, its territories, possessions, or commonwealths: ‘I declare (or certify, verify, or state) under penalty of perjury that the foregoing is true and correct. Executed on (date). Signature)'.

Record source categories:

Information originates from the individual prior to and during the examination.

Exemptions claimed for the system:

Investigatory material compiled for law enforcement purposes, other than material within the scope of subsection 5 U.S.C. 552a(j)(2), may be exempt pursuant to 5 U.S.C. 552a(k)(2). However, if an individual is denied any right, privilege, or benefit for which he would otherwise be entitled by Federal law or for which he would otherwise be eligible, as a result of the maintenance of the information, the individual will be provided access to the information exempt to the extent that disclosure would reveal the identity of a confidential source. Note: When claimed, this exemption allows limited protection of investigative reports maintained in a system of records used in personnel or administrative actions.

An exemption rule for this system has been promulgated in accordance with requirements of 5 U.S.C. 552a(b)(1), (2), and (3), (c) and (e) published in 32 CFR Part 320. For additional information, contact the system manager.

[FR Doc. 2013-27461 Filed 11-18-13; 8:45 am]

BILLING CODE 5001-06-P